SECURITIES AND EXCHANGE COMMISSION

[Release No. IC-24845]

Notice of Applications for Deregistration Under Section 8(f) of the Investment Company Act of 1940

January 26, 2001.

The following is a notice of applications for deregistration under section 8(f) of the Investment Company Act of 1940 for the month of January 2001. A copy of each application may be obtained for a fee at the SEC's Public Reference Branch, 450 Fifth St., NW., Washington, DC 20549-0102 (tel. 202-942-8090). An order granting each application will be issued unless the SEC orders a hearing. Interested persons may request a hearing on any application by writing to SEC's Secretary at the address below and serving the relevant applicant with a copy of the request, personally or by mail. Hearing requests should be received by the SEC by 5:30 p.m. on February 20, 2001, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus, at (202) 942-0564, SEC, Division of Investment Management, Office of Investment Company Regulation, 450 Fifth Street, NW., Washington, DC 20549-0506.

Morgan Keegan Southern Capital Fund, Inc. [File No. 811-4658]

Summary: Applicant seeks an order declaring that it has ceased to be an investment company. On October 31, 2000, applicant transferred its assets to Morgan Keegan Select Capital Growth Fund, a series of Morgan Select Fund, Inc. based on net asset value. Expenses of $81,594 incurred in connection with the reorganization where shared equally between applicant and Morgan Asset Management, Inc., applicant's investment adviser.

Filing Date: The application was filed on January 17, 2001.

Applicant's Address: 50 Front Street, Memphis, TN 38103.

Merrill Lynch Consults International Portfolio [File No. 811-6725]

Summary: Applicant seeks an order declaring that it has ceased to be an investment company. On March 6, 2000, applicant transferred its assets to Merrill Lynch International Equity Fund based on net asset value. Expenses of $18,594 incurred in connection with the reorganization were paid by the acquiring fund.

Filing Date: The application was filed on January 11, 2001.

Applicant's Address: 800 Scudders Mill Road, Plainsboro, NJ 08536.

The Foreign & Colonial Emerging Middle East Fund, Inc. [File No. 811-8678]

Summary: Applicant, a closed-end investment company, seeks an order declaring that it has ceased to be an investment company. On December 28, 2000, applicant made a final liquidating distribution to its shareholders based on the net asset value. Applicant has retained a reserve of $163,115 to cover current and anticipated liabilities, which will be held in trust for the benefit of applicant's creditors and shareholders. All assets remaining as of three years after the record date of June 26, 2000 will be distributed to shareholders or escheat to the State of Maryland. Expenses of $142,014 incurred in connection with the liquidation were paid by applicant.

Filing Date: The application was filed on January 12, 2001.

Applicant's Address: c/o Mitchell Hutchins Asset Management, Inc., 51 West 52nd Street, New York, NY 10019.

Pathfinder Trust [File No. 811-5020]

Summary: Applicant seeks an order declaring that it has ceased to be an investment company. On May 30, 2000, applicant made a liquidating distribution to its shareholders based on net asset value. Expenses of $28,979 incurred in connection with the liquidation were paid by applicant.

Filing Date: The application was filed on January 10, 2001.

Applicant's Address: 4023 West 6th Street, Los Angeles, CA 90020.

Schroder Capital Funds [File No. 811-9130]

Summary: Applicant, a master fund in a master/feeder structure, seeks an order declaring that it has ceased to be an investment company. On June 30, 2000, applicant made a liquidating distribution to its sole remaining shareholder based on net asset value. Expenses of approximately $2,500 incurred in connection with the liquidation were paid by applicant.

Filing Date: The application was filed on December 26, 2000.

Applicant's Address: 787 Seventh Avenue, 34th Floor, New York, NY 10019.

Independence Square Income Securities, Inc. [File No. 811-2233]

Summary: Applicant, a closed-end investment company, seeks an order declaring that it has ceased to be an investment company. On May 17, 2000, applicant transferred its assets to BlackRock Funds (SM)—BlackRock High Yield Bond Portfolio, based on net asset value. BlackRock Institutional Management Corporation, applicant's investment adviser, bore all expenses incurred in connection with the reorganization.

Filing Date: The application was filed on January 4, 2001.

Applicant's Address: c/o Edward J. Roach, 400 Bellevue Park, Wilmington, DE 19809.

Connecticut Limited Maturity Municipals Portfolio [File No. 811-7518]; Michigan Limited Maturity Municipals Portfolio [File No. 811-7522]

Summary: Each applicant, a master fund in a master-feeder structure, seeks an order declaring that it has ceased to be an investment company. On October 29, 1999, each applicant made a liquidating distribution to its shareholders based on net asset value. Expenses of $9,452 and $10,694, respectively, incurred in connection with the liquidations were paid by Eaton Vance Connecticut Limited Maturity Municipals Fund and Eaton Vance Michigan Limited Maturity Municipals Fund, respectively, each a feeder fund of the master fund.

Filing Date: The applications were filed on January 17, 2001.

Applicants' Address: The Eaton Vance Building, 255 State Street, Boston, MA 02109.

Lord Abbett Equity Fund [File No. 811-6033]

Summary: Applicant seeks an order declaring that it has ceased to be an investment company. On May 31, 2000, applicant transferred its assets to Lord Abbett Large-Cap Growth Fund based on net asset value. Expenses of $130,046 were incurred in connection with the reorganization, of which Lord, Abbett & Co., applicant's investment adviser, paid 50%. Applicant and the acquiring fund paid the remaining 50% based on their respective net assets.

Filing Date: The application was filed on January 2, 2001.

Applicant's Address: 90 Hudson Street, Jersey City, NJ 07302-3973.

Nuveen Tax-Exempt Money Market Fund, Inc. [File No. 811-3134]; Nuveen California Tax-Free Fund, Inc. [File No. 811-4508]; Nuveen Tax-Free Money Market Fund, Inc. [File No. 811-4822]

Summary: Each applicant seeks an order declaring that it has ceased to be an investment company. On June 25, 1999, each applicant transferred its assets to Nuveen Institutional Tax-Exempt Money Market Fund, Nuveen California Tax-Exempt Money Market Fund, and Nuveen New York Tax-Exempt Money Market Fund, respectively, each a series of Nuveen Money Market Trust, based on net asset value. Expenses of $135,314, $33,146 and $15,531, respectively, were incurred in connection with the reorganizations and were paid by each applicant.

Filing Date: The applications were filed on January 3, 2001.

Applicants' Address: 333 West Wacker Drive, Chicago, IL 60606-1286.

Balanced Portfolio [File No. 811-8010]

Summary: Applicant, a master fund, in a master-feeder structure, seeks an order declaring that it has ceased to be an investment company. On February 29, 2000, applicant made a liquidating distribution to its shareholders based on net asset value. Expenses of $4,489 incurred in connection with the liquidation were paid by Eaton Vance Balanced Fund, a “feeder” fund of applicant.

Filing Dates: The application was filed on November 7, 2000, and amended on January 17, 2001.

Applicant's Address: The Eaton Vance Building, 255 State Street, Boston, MA 02109.

American Municipal Trust [File No. 811-3733]

Summary: Applicant, a unit investment trust, seeks an order declaring that it has ceased to be an investment company. By December 29, 1998, applicant had distributed its assets to unit holders based on net asset value. Applicant has 59 outstanding unit holders, who have not been located. Chase Manhattan Bank, N.A., applicant's trustee, is holding the unclaimed funds, which will escheat to the State of New York after 10 years. Printing and postage expenses of approximately $10,000 were paid by applicant's trustee, out of a trustee's fee paid by applicant's unit holders on a pro rata basis, and legal expenses of approximately $1,000 were paid by American Municipal Securities, Inc., applicant's depositor.

Filing Dates: The application was filed on March 16, 2000, and amended on June 13, 2000 and December 19, 2000.

Applicant's Address: 770 Second Avenue South, St. Petersburg, FL 33701.

Templeton Variable Products Series Fund [File No. 811-5479]

Summary: Applicant seeks an order declaring that it has ceased to be an investment company. On May 1, 2000, applicant transferred its assets to Franklin Large Cap Growth Securities Fund, Franklin Small Cap Fund, Mutual Shares Securities Fund, Templeton Global Asset Allocation Fund, Templeton Global Income Securities Fund, Templeton Developing Markets Equity Fund, Templeton International Equity Fund, Templeton Global Growth Fund, Franklin S&P 500 Index Fund, and Franklin Strategic Income Securities Fund (the “Acquiring Funds”) based on net asset value. Expenses of $1,275,910 incurred in connection with the reorganization were paid by Franklin Advisers, Inc., Templeton Investment Counsel, Inc., Templeton Asset Management Ltd., Templeton Global Advisors Limited, Franklin Mutual Advisers, LLC, Franklin Templeton Variable Insurance Products Trust, and Templeton Variable Products Series Fund.

Filing Dates: The application was filed on August 11, 2000 and amended on October 4, 2000.

Applicant's Address: 500 East Broward Boulevard, Suite 2100, Fort Lauderdale, FL 33394-3091.

Bank Fiduciary Fund—Equity [File No. 811-667]; Bank Fiduciary Fund—Fixed Income [File No. 811-1996]

Summary: Each applicant seeks an order declaring that it has ceased to be an investment company. On April 28, 2000, each applicant made a final liquidating distribution to its shareholders based on net asset value. Expenses of $27,000 and $20,000, respectively, were incurred in connection with the liquidations and were paid by each applicant.

Filing Dates: The applications were filed on July 6, 2000, and amended on January 24, 2001.

Applicants' Address: c/o New York Bankers Assn., 99 Park Avenue, New York, NY 10016-1502.

The Govett Funds, Inc. [File No. 811-6229]

Summary: Applicant seeks an order declaring that it has ceased to be an investment company. Between August 12, 2000 and September 11, 2000, four of applicant's series, Govett Emerging Markets Equity Fund, Govett International Equity Fund, Govett Global Income Fund and Govett Smaller Companies Fund, transferred their assets to corresponding series of ARK Funds, based on net asset value. On October 16, 2000, applicant's remaining series, Govett International Smaller Companies Fund, made a liquidating distribution to its shareholders based on net asset value. Expenses of $672,831 incurred in connection with the reorganizations and liquidation were paid by applicant's investment adviser, AIB Govett, Inc.

Filing Date: The application was filed on January 18, 2001.

Applicant's Address: c/o AIB Govett, Inc., 250 Montgomery Street, Suite 1200, San Francisco, CA 94104.

PPM America Funds [File No. 811-9001]

Summary: Applicant seeks an order declaring that it has ceased to be an investment company. On January 19, 2001, applicant made a final liquidating distribution to its sole shareholder based on net asset value. Expenses of $1,600 incurred in connection with the liquidation were paid by applicant's investment adviser, PPM America, Inc.

Filing Date: The application was filed on January 23, 2001.

Applicant's Address: 225 West Wacker Drive, Chicago, IL 60606.

For the Commission, by the Division of Investment Management, pursuant to delegated authority.
Margaret H. McFarland,
Deputy Secretary.

[FR Doc. 01-2812 Filed 2-1-01; 8:45 am]

BILLING CODE 8010-01-M